DEPARTMENT OF LABOR

Employment and Training Administration

[TA-W-38,430]

Unilever-Bestfoods, Lipton, Conopco, Inc., Dallas, TX; Amended Certification Regarding Eligibility to Apply for Worker Adjustment Assistance

In accordance with section 223 of the Trade Act of 1974 (19 U.S.C. 2273) the U.S. Department of Labor issued a Certification of Eligibility to Apply for Worker Adjustment Assistance on February 5, 2001, applicable to workers of Unilever-Bestfoods, Lipton, Dallas, Texas. The notice was published in the Federal Register on March 2, 2001 (66 FR 13086).

At the request of the State agency, the Department reviewed the certification for workers of the subject firm. The workers are engaged in the production of 50 pound bulk margarine cubes. New information shows that some workers separated from employment at Unilever-Bestfoods, Lipton had their wages reported under a separate unemployment insurance (UI) tax account for Conopco, Inc., a company established by the subject firm to handle worker compensation nationwise.

The intent of the Department's certification is to include all workers of Unilever-Bestfoods, Lipton, who were adversely affected by increased imports of margarine.

Accordingly, the Department is amending the certification to properly reflect this matter.

The amended notice applicable to TA-W-38,430 is hereby issued as follows:

All workers of Unilever-Bestfoods, Lipton, Conopco, Inc., Dallas, Texas, who became totally or partially separated from employment on or after December 5, 1999, through February 5, 2003, are eligible to apply for adjustment assistance under Section 223 of the Trade Act of 1974.

Signed at Washington, DC this 23rd day of April, 2001.
Linda G. Poole,
Certifying Officer, Division of Trade Adjustment Assistance.

[FR Doc. 01-11105 Filed 5-2-01; 8:45 am]

BILLING CODE 4510-30-M